ENVIRONMENTAL PROTECTION AGENCY

[FRL-8039-6; OEI-2005-16]

New—SORN—Kids Club; Privacy Act of 1974: Publication of New System of Record Notice

AGENCY: Environmental Protection Agency (EPA).

ACTION: Notice of Publication of Kids Club Membership List.

SUMMARY: Pursuant to provisions of the Privacy Act of 1974 (5 U.S.C. 552a), the Region 5 Office of Public Affairs is giving notice that it proposes to publish a new system of records notice for the Kids Club Membership List. This system of records pertains to the collection of name, mailing address, age, and summaries of environmental projects from students in grades K-4. The kids club promotes environmental stewardship by encouraging kids in grades K-4 to receive recognition by completing environmental projects. Kids will receive a certificate and membership card for joining the club. Once kids complete a project, upon parent/guardian consent, it will be posted on http://www.epa.gov/kids.

DATES: This notice will be effective April 11, 2006.

ADDRESSES: Questions regarding this notice should be addressed to: Karen Reshkin, Public Access Coordinator, U.S. EPA Region 5, 77 W. Jackson Blvd. (P-19J), Chicago, IL 60604.

FOR FURTHER INFORMATION CONTACT: Megan Gavin, Environmental Education Coordinator, U.S. EPA Region 5, 77 W. Jackson Blvd. (P-19J), Chicago, IL 60604, Ph: (312) 353-5282.

SUPPLEMENTARY INFORMATION: EPA has established an official public docket for this action under Docket ID No. OEI-2005-16. The official public docket is the collection of materials that is available for public viewing at the OEI Docket in the EPA Docket Center, (EPA/DC) EPA West, Room B102, 1301 Constitution Avenue, NW., Washington, DC. The EPA Docket Center Public Reading Room is open from 8:30 a.m. to 4:30 p.m., Monday through Friday, excluding legal holidays. The telephone number for the Reading Room is (202) 566-1744, and the telephone number for the OEI Docket is (202) 566-1752.

An electronic version of the public docket is available through EPA's electronic public docket and comment system, EPA Dockets (http://www.epa.gov/edocket/). EPA Dockets can be used to view public comments, access the index listing of the contents of the official public docket, and to access those documents in the public docket that are available electronically. Although not all docket materials may be available electronically, you may still access any of the publicly available docket materials through the docket facility identified above.

Dated: February 21, 2006.
Linda A. Travers,
Acting Assistant Administrator and Chief Information Officer.

EPA-57

System Name:

Kids Club Membership List.

Security Classification:

None.

System Location:

Office of Public Affairs, U.S. Environmental Protection Agency, Region 5, 77 W. Jackson Blvd. (P-19J), Chicago, IL 60604.

Categories of Individuals Covered by the System:

Kids in grades K-4 and their parent/guardian who are members in the Kids Club will be part of the system.

Categories of Records in the System:

Information collected will include name, mailing address, email address, age, date of membership, date of receipt of environmental projects, consent form from the parent, and summaries of environmental projects.

Authority for Maintenance of the System:

National Environmental Education Act of 1990, 20 U.S.C. 5503(b)(2) (Pub. L. 101-619).

Purpose(s):

Kids Club Membership List promotes environmental stewardship to kids in grades K-4. Information submitted to the agency by members of the kids club will be maintained in a protected database system. Club promotes kids doing environmental education projects.

Routine Uses of Records Maintained in the System Including Categories of Users and the Purposes of Such Uses:

General Routine Uses A, F, and H.

Policies and Practices for Storing, Retrieving, Accessing, Retaining, and Disposing of Records in the System:

Storage:

In a protected computer database. Data will be backed up on a CD which will be kept in a locked file cabinet. Hard copies will also be kept in a locked file cabinet.

Retrievability:

By last name, city, state.

Safeguards:

Computer records are maintained in a secure, password protected computer system. Paper records are maintained in lockable file cabinets. All records are maintained in secure, access-controlled areas or buildings.

Access will be limited to EPA staff in the Office of Public Affairs as well as SEE employees whose official duties require such access.

Retention and Disposal:

A schedule for retention and disposal is currently under development.

System Manager(s) and Address:

Elissa Speizman, Director, Office of Public Affairs, U.S. EPA Region 5, 77 W. Jackson Blvd. (P-19J), Chicago, IL 60604.

Notification Procedure:

Any individual who wants to know whether this system of records contains a record about him or her, who wants access to his or her record, or who wants to contest the contents of a record, should make a written request to the Freedom of Information Office, Attention Privacy Act Officer. Complete EPA Privacy Act procedures are set out in 40 CFR part 16.

Record Access Procedures:

Any individual who wants to know whether this system of records contains a record about him or her, who wants access to his or her record, or who wants to contest the contents of a record, should make a written request to the system manager. Complete EPA Privacy Act procedures are set out in 40 CFR part 16.

Contesting Records Procedures:

Any individual who wants to know whether this system of records contains a record about him or her, who wants access to his or her record, or who wants to contest the contents of a record, should make a written request to the system manager. Requests for correction or amendment must identify the record to be changed and the corrective action sought. Complete EPA Privacy Act procedures are set out in 40 CFR part 16.

Record Source Categories:

Record will come from children in grades K-4 as well as parents/guardians.

System Exempted from Certain Provisions of the Act:

None.

[FR Doc. E6-2951 Filed 3-1-06; 8:45 am]

BILLING CODE 6560-50-P